DEPARTMENT OF DEFENSE

Office of the Secretary

[Docket ID DoD-2021-OS-0019]

Submission for OMB Review; Comment Request

AGENCY: Office of the Under Secretary of Defense for Personnel and Readiness, Department of Defense (DoD).

ACTION: Information collection notice.

SUMMARY: Consistent with the Paperwork Reduction Act of 1995 and its implementing regulations, this document provides notice DoD is submitting an Information Collection Request to the Office of Management and Budget (OMB) to collect information from Sexual Assault Response Coordinators (SARCs), Sexual Assault Prevention and Response Victim Advocates (SAPR VAs), Special Victims Counsels (SVC), Victims Legal Counsels (VLCs), and Prevention Personnel to assess progress, identify shortfalls, and revise policies and programs as needed for the QuickCompass of Sexual Assault Prevention and Response Personnel (QSAPR). DoD requests emergency processing and OMB authorization to collect the information after publication of this Notice for a period of six months.

DATES: Comments must be received by April 16, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela James, 571-372-7574, or whs.mc-alex.esd.mbx.dd-dod-information-collections@mail.mil.

SUPPLEMENTARY INFORMATION: The QuickCompass of Sexual Assault Prevention and Response Personnel (QSAPR) assesses perceived professional or other reprisal or retaliation; access to sufficient physical and mental health services as a result of the nature of their work; access to installation and unit commanders; access to victims and alleged offender's immediate commander; responsiveness of commanders to SARCs; support and services provided to sexual assault victims; understanding of others of the process and their willingness to assist; adequacy of training received by SARCs and SAPR VAs to effectively perform their duties; and other factors affecting the ability of SARCs and SAPR VAs to perform their duties. In addition, the results of the survey will assess progress, identify shortfalls, and revise policies and programs as needed. The FY21 NDAA requires that not later than June 30, 2021 the Secretary of Defense (SECDEF) survey SARCs and SAPR VAs on their ability to perform duties. SECDEF is required to submit a report of the survey results and actions to be taken as a result of the survey to the Senate and House Committees on Armed Services. In order to be able to meet reporting requirements for DoD leadership, the Military Services, and Congress, the survey needs to be completed by May 2021 to be able to present results to leadership by the end of 2021. That will also allow the results to be shared with the Department and Congress in the DoD SAPRO Annual Report as they have been in previous cycles. Data will be aggregated and reported triennially in perpetuity. Ultimately, the study will provide a report to Congress and all of the data, programs, and computational details necessary for replication and peer review.

Title; Associated Form; and OMB Number: Sexual Assault Prevention and Response Personnel.

Type of Request: New.

Number of Respondents: 5,000.

Responses per Respondent: 1.

Annual Responses: 5,000.

Average Burden per Response: 20 minutes.

Annual Burden Hours: 1,667.

Affected Public: Individuals or households.

Frequency: Every three years.

Respondent's Obligation: Voluntary.

Request for Comments: Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: March 29, 2021.
Aaron T. Siegel,
Alternate OSD Federal Register Liaison Officer, Department of Defense.

[FR Doc. 2021-06717 Filed 3-31-21; 8:45 am]

BILLING CODE 5001-06-P